DEPARTMENT OF ENERGY

Federal Energy Regulatory Commission

[Docket No. EC03-110-001, et al.]

Texas-New Mexico Power Company, et al.; Electric Rate and Corporate Filings

September 10, 2003.

The following filings have been made with the Commission. The filings are listed in ascending order within each docket classification.

1. Texas-New Mexico Power Company and Southern New Mexico Electric Company

[Docket No. EC03-110-001]

Take notice that on August 28, 2003, Texas-New Mexico Power Company (TNMP) filed with the Commission journal entries pursuant to TNMP's and Southern New Mexico Electric Company's application for disposition of jurisdictional facilities in Docket No. EC03-110-000.

TNMP states that copies of the journal entries have been provided to all parties who have intervened in this proceeding.

Comment Date: September 17, 2003.

2. Southwestern Public Service Company

[Docket No. EC03-135-000]

Take notice that on September 8, 2003, Xcel Energy Services Inc., on behalf of Southwestern Public Service Company, requested authorization under Section 203 of the Federal Power Act to transfer jurisdictional transmission facilities to NewCorp Resources Electric Cooperative, Inc.

Comment Date: September 29, 2003.

3. Carolina Power & Light Company and Florida Power Corporation

[Docket Nos. ER01-1807-013 and ER01-2020-010]

Take notice that on September 4, 2003, Carolina Power & Light Company d/b/a Progress Energy Carolinas, Inc. (CP&L), submitted for filing a refund report as required by Commission Order issued on May 21, 2003 in Docket No. ER01-1807-005, et al., 103 FERC ¶ 61,209.

CP&L states that the report shows the disbursement of energy imbalance penalty revenues and interest to the non-offending customers. CP&L also states that the refunds were distributed on August 1, 2003 with the exception of the refund to SCANA Energy Marketing which was delivered on August 18, 2003.

Comment Date: September 25, 2003.

4. Mirant Kendall, LLC

[Docket Nos.ER03-998-001 and ER03-563-018]

Take notice that on September 2, 2003, ISO New England Inc. (ISO) submitted a Compliance Filing as directed by the Commission in its August 22, 2003 Order Accepting Certain Bid Cost Input Information for Filing, and Directing Compliance Filing, 104 FERC ¶ 61,219. The ISO states that copies of the filing have been served on all parties to the above-captioned proceeding.

Comment Date: September 23, 2003.

5. PacifiCorp

[Docket No. ER03-1095-001]

Take notice that on September 4, 2003, PacifiCorp, tendered for filing in accordance with 18 CFR 35 of the Commission's Rules and Regulations a red-lined version of PacifiCorp's First Revised FERC Rate Schedule No. 306 which was previously filed with the Commission on July 21, 2003 in Docket No. ER03-1095-000.

PacificCorp states that copies of this filing were supplied to the Public Utility Commission of Oregon and the Washington Utilities and Transportation Commission.

Comment Date: September 25, 2003.

6. Energy Cooperative Association of Pennsylvania

[Docket No. ER03-1165-001]

Take notice that on September 4, 2003, Energy Cooperative Association of Pennsylvania (ECAP) filed a supplement to its application filed on August 6, 2003 for approval of market-based rates as a power marketer. The supplemental information pertains to formatting and presentation of Rate Schedule FERC No. 1.

Comment Date: September 25, 2003.

7. Exelon Corporation

[Docket No. ER03-1279-000]

Take notice that on August 29, 2003, Exelon Corporation submitted for filing Fully Executed Network Service and Network Operating Agreements between the Cities of Batavia and St. Charles, Illinois and Commonwealth Edison Company and Commonwealth Edison Company of Indiana, Inc.

Comment Date: September 19, 2003.

8. Allegheny Energy Supply Conemaugh, LLC

[Docket No ER03-1286-000]

Take notice that on September 3, 2003, Allegheny Energy Supply Conemaugh, LLC (Conemaugh) filed a Notice of Cancellation of FERC Electric Tariff, Original Volume No. 1, which was accepted for filing and made effective January 1, 2001 in Docket No. ER01-791-000. Conemaugh requests that the cancellation be made effective September 3, 2003.

Comment Date: September 24, 2003.

9. New York Independent System Operator, Inc.

[Docket No. ER03-1296-000]

Take notice that on September 2, 2003, the New York Independent System Operator, Inc. (NYISO) tendered for filing revisions to the ISO Market Administration and Control Area Services Tariff (the Services Tariff) proposing a revised supplemental supply fee. The NYISO has requested an effective date of May 21, 2003, the effective date of the NYISO's March 21, 2003 filing implementing the Demand Curve proposal.

The NYISO states that it has served a copy of this filing upon all parties that have executed service agreements under the NYISO's Open Access Transmission Tariff or the Services Tariff and upon the New York State Public Service Commission and to the electric utility regulatory agencies in New Jersey and Pennsylvania.

Comment Date: September 23, 2003.

10. Midwest Independent Transmission System Operator, Inc.

[Docket No. ES03-56-000]

Take notice that on September 3, 2003, Midwest Independent Transmission System Operator, Inc. (Midwest ISO) submitted an application pursuant to Section 204 of the Federal Power Act seeking authorization to issue notes or other evidence of indebtedness in an amount not to exceed $125 million.

The Midwest ISO also requests a waiver from the Commission's competitive bidding requirement at 18 CFR 34.2.

Comment Date: October 10, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-23668 Filed 9-16-03; 8:45 am]

BILLING CODE 6717-01-P